DEPARTMENT OF COMMERCE

National Institute of Standards and Technology

Cloud Computing Forum & Workshop III

AGENCY: National Institute of Standards and Technology (NIST), Commerce.

ACTION: Notice of public workshop.

SUMMARY: NIST announces the Cloud Computing Forum & Workshop III to be held on April 7 and 8, 2011. The event will include keynotes from the U.S. Chief Information Officer, NIST Under Secretary of Commerce for Standards and Technology, and other key federal officials. This workshop will provide information on the NIST strategic and tactical Cloud Computing program, including progress on the NIST efforts to advance open standards in interoperability, portability and security in cloud computing. The goals of this workshop are to present updates on: The NIST U.S. Government (USG) Cloud Computing Technology Roadmap; a series of high-value target U.S. Government Agency Cloud Computing Business Use Cases; a first version of a neutral cloud computing reference architecture and taxonomy; the NIST Standards Roadmap and the Standards Acceleration to Jumpstart the Adoption of Cloud Computing (SAJACC) process; and progress by the NIST Cloud Computing Security working group. The event will also include panels focusing on Cloud Computing across the Federal landscape as well as broad private sector topics.

DATES: The Cloud Computing Forum & Workshop III will be held April 7 and 8, 2011.

ADDRESSES: The event will be held at the National Institute of Standards and Technology, 100 Bureau Drive, Gaithersburg, MD 20899 in the Red Auditorium of the Administration Building, Building 101. All visitors to the NIST site are required to pre-register to be admitted and have appropriate government-issued photo ID to gain entry to NIST. Anyone wishing to attend this meeting must register at http://www.nist.gov/itl/cloud/cloudworkshopiii.cfm by close of business Monday, March 28, 2011, in order to attend.

FOR FURTHER INFORMATION CONTACT: For further information contact Robert Bohn by e-mail at robert.bohn@nist.gov or by phone at (301) 975-4500.

SUPPLEMENTARY INFORMATION: On May 20, 2010, NIST hosted the first Cloud Computing Forum & Workshop. The purpose of that initial workshop was to respond to the request of the Federal Chief Information Officer to NIST to lead Federal efforts on standards for data portability, cloud interoperability, and security. The workshop's goals were to initiate engagement with industry to accelerate the development of cloud standards for interoperability, portability, and security; introduce NIST Cloud Computing efforts; and discuss the Federal Government's experience with cloud computing.

The purpose of the second Cloud Computing Forum & Workshop II, on November 4 and 5, 2010, was to report on the status of the efforts and to socialize the NIST strategy to collaboratively develop a Cloud Computing Roadmap among multiple Federal and industrial stakeholders, and to advance a dialogue between these groups. Panel discussions considered the roles of standard organizations and ad-hoc standards in the cloud; need and use of a reference architecture to support cloud adoption; key cloud computing issues and proposed solutions; security in the cloud; and international aspects of cloud computing. Breakout sessions on the following day, November 5, actively engaged stakeholders, discussed these issues, and developed a series of next steps for the effort in cloud computing standards. NIST led and stake-holder driven working groups in Standards, Security, Reference Architecture and Taxonomy, Target USG Agency Business Use Cases and SAJACC were formed.

The purpose of the Cloud Computing Forum & Workshop III is to elaborate on the progress of the NIST USG Cloud Computing Technology Roadmap through the activities of the NIST led, stake-holder driven working groups that were formed during the November 2010 event. The progress of these groups will be presented over a two-day span. Panel discussions relating to their applicability to the USG need, strategy and next steps will be held.

Dated: March 8, 2011.
Charles H. Romine,
Acting Associate Director for Laboratory Programs.

[FR Doc. 2011-6034 Filed 3-14-11; 8:45 am]

BILLING CODE 3510-13-P